DEPARTMENT OF COMMERCE

International Trade Administration

A-580-829

Stainless Steel Wire Rod from the Republic of Korea: Final Results of Antidumping Duty Administrative Review

AGENCY: Import Administration, International Trade Administration, Department of Commerce.

SUMMARY: On October 11, 2006, the Department of Commerce published the preliminary results of the administrative review of the antidumping duty order on stainless steel wire rod (SSWR) from the Republic of Korea. We gave interested parties an opportunity to comment on the preliminary results. Based on our analysis of the comments received and an examination of our calculations, we have made certain changes for the final results. The final weighted-average dumping margins for the respondents are listed below in the “Final Results of the Review” section of this notice.

EFFECTIVE DATE: February 12, 2007.

FOR FURTHER INFORMATION CONTACT: Thomas Schauer at (202) 482-0410 or Richard Rimlinger at (202) 482-4477, AD/CVD Operations, Office 5, Import Administration, International Trade Administration, U.S. Department of Commerce, 14th Street and Constitution Avenue, NW., Washington, DC 20230.

SUPPLEMENTARY INFORMATION:

Background

On October 11, 2006, the Department of Commerce (the Department) published Stainless Steel Wire Rod from the Republic of Korea: Preliminary Results of Antidumping Duty Administrative Review, 71 FR 59739 (October 11, 2006) (Preliminary Results), in the Federal Register. The period of review is September 1, 2004, through August 31, 2005. We have conducted this review in accordance with section 751(a) of the Tariff Act of 1930, as amended (the Act).

We invited parties to comment on the Preliminary Results. On November 13, 2006, Carpenter Technology Corporation, Dunkirk Specialty Steel, LLC (a subsidiary of Universal Stainless & Alloy Products), and North American Stainless (collectively, the petitioners), and respondents Changwon Specialty Steel Co., Ltd., and Dongbang Specialty Steel Co., Ltd. (collectively, the respondent),¹ filed case briefs. On November 20, 2006, the petitioners and the respondent filed rebuttal briefs. Although the respondent requested a hearing on November 13, 2006, it withdrew its request on November 17, 2006. Because no other interested party requested a hearing, we did not hold one.

¹ We collapsed the two respondents into a single entity because we concluded they had a close supplier relationship. See Preliminary Results, 71 FR at 59739.

Scope of Order

For purposes of this order, the products covered are those SSWR that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Two stainless steel grades are excluded from the scope of the order. SF20T and K-M35FL are excluded. The chemical makeup for the excluded grades is as follows:

SF20T |
Carbon | 0.05 max
Manganese | 2.00 max
Phosphorous | 0.05 max
Sulfur | 0.15 max
Silicon | 1.00 max
Chromium | 19.00/21.00
Molybdenum | 1.50/2.50
Lead-added | (0.10/0.30)
Tellurium-added | (0.03 min)

K-M35FL |
Carbon | 0.015 max
Silicon | 0.70/1.00
Manganese | 0.40 max
Phosphorous | 0.04 max
Sulfur | 0.03 max
Nickel | 0.30 max
Chromium | 12.50/14.00
Lead | 0.10/0.30
Aluminum | 0.20/0.35

The products subject to the order are currently classifiable under subheadings 7221.00.0005, 7221.00.0015, 7221.00.0030, 7221.00.0045, and 7221.00.0075 of the Harmonized Tariff Schedule of the United States (HTSUS). Although the HTSUS subheadings are provided for convenience and customs purposes, the written description of the scope of the order is dispositive.

Analysis of Comments Received

All issues raised in the case and rebuttal briefs by parties to this review are addressed in the February 1, 2007, Issues and Decision Memorandum for the Antidumping Duty Administrative Review of Stainless Steel Wire Rod from the Republic of Korea for the period September 1, 2004, through August 31, 2005 (Decision Memorandum), which is hereby adopted by this notice. Attached to this notice as an appendix is a list of the issues which parties have raised and to which we have responded in the Decision Memorandum. Parties can find a complete discussion of all issues raised in this review and the corresponding recommendations in this public memorandum, which is on file in the Department's Central Records Unit, Room B-099 of the main Department building. In addition, a complete version of the Decision Memorandum can be accessed directly on the Web at http://ia.ita.doc.gov/frn. The paper copy and electronic version of the Decision Memorandum are identical in content.

Changes Since the Preliminary Results

We have made the following changes to the margin we calculated for the respondent in the Preliminary Results:

1) We corrected a ministerial error to match models by grade properly.

2) We included the respondent's loss on inventory obsolescence in the calculation of general and administrative expenses.

Results of the Cost Test

Pursuant to section 773(b)(2)(C)(i) of the Act, where less than 20 percent of sales of a given product were at prices less than the cost of production (COP), we did not disregard any below-cost sales of that product because we determined that the below-cost sales were not made in “substantial quantities.” Where 20 percent or more of a respondent's sales of a given product during the period of review were at prices less than the COP, we determined such sales to have been made in “substantial quantities.” See section 773(b)(2)(C) of the Act. The sales were made within an extended period of time in accordance with section 773(b)(2)(B) of the Act because we examined below-cost sales occurring during the entire period of review. In such cases, because we compared prices to average costs for the period of review, we also determined that such sales were not made at prices which would permit recovery of all costs within a reasonable period of time, in accordance with section 773(b)(2)(D) of the Act.

We found that, for certain products, more than 20 percent of the comparison-market sales were at prices less than the COP and, thus, the below-cost sales were made within an extended period of time in substantial quantities by the respondent. In addition, these sales were made at prices that did not provide for the recovery of costs within a reasonable period of time. Therefore, we disregarded the below-cost sales and used the remaining sales, if any, as the basis for determining normal value, in accordance with section 773(b)(1) of the Act.

Final Results of the Review

As a result of our review, we determine that the following percentage weighted-average dumping margin exists on SSWR from the Republic of Korea for the period September 1, 2004, through August 31, 2005:

Company | Margin (percent)
Changwon/Dongbang | 9.06

Assessment Rates

The Department will determine and U.S. Customs and Border Protection (CBP) shall assess antidumping duties on all appropriate entries. We intend to issue appropriate assessment instructions directly to CBP within 15 days of publication of these final results of review. In accordance with 19 CFR 351.212(b)(1), we have calculated an importer/customer-specific assessment rate or per-unit value for subject merchandise.

The Department clarified its “automatic assessment” regulation, codified at 19 CFR 351.212(c), on May 6, 2003. See Notice of Policy Concerning Assessment of Antidumping Duties, 68 FR 23954 (May 6, 2003) (Assessment-Policy Notice). This clarification will apply to entries of subject merchandise during the period of review produced by the companies included in these final results of review for which the reviewed companies did not know that the merchandise it sold to the intermediary (e.g., a reseller, trading company, or exporter) was destined for the United States. In such instances, we will instruct CBP to liquidate unreviewed entries at the “All Others” rate if there is no rate for the intermediary involved in the transaction. See Assessment-Policy Notice for a full discussion of this clarification.

a. Export Price

With respect to export-price sales, we divided the total dumping margins (calculated as the difference between normal value and the export price) for the respondent's importer or customer by the total number of units the respondent sold to that importer or customer. We will direct CBP to assess the resulting per-unit dollar amount against each unit of merchandise on each of that importer's or customer's entries during the review period.

b. Constructed Export Price

For constructed export-price sales, we divided the total dumping margins for the reviewed sales by the total entered value of those reviewed sales for each importer. We will direct CBP to assess the resulting percentage margin against the entered customs values for the subject merchandise on each of that importer's entries during the review period. See 19 CFR 351.212(b)(1).

Cash-Deposit Requirements

The following deposit requirements will be effective upon publication of this notice of final results of administrative review for all shipments of the subject merchandise entered, or withdrawn from warehouse, for consumption on or after the date of publication, consistent with section 751(a)(1) of the Act: (1) the cash-deposit rates for the reviewed company will be the rate shown above; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; (4) the cash-deposit rate for all other manufacturers or exporters will continue to be 5.19 percent, the “All Others” rate from the amended final determination of the LTFV investigation published on September 15, 1998. See Notice of Amendment of Final Determination of Sales at Less Than Fair Value and Antidumping Duty Order: Stainless Steel Wire Rod From Korea, 63 FR 49331 (September 15, 1998).

These deposit requirements shall remain in effect until publication of the final results of the next administrative review.

This notice serves as a reminder to importers of their responsibility under 19 CFR 351.402(f) to file a certificate regarding the reimbursement of antidumping duties prior to liquidation of the relevant entries during these review periods. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the return or destruction of APO materials or conversion to judicial protective order is hereby requested. Failure to comply with the regulations and the terms of an APO is a sanctionable violation.

We are issuing and publishing these final results of review in accordance with sections 751(a)(1) and 777(i) of the Act.

Dated: February 1, 2007.
David M. Spooner,
Assistant Secretary for Import Administration.

Appendix

Comments and Responses

1. Offsetting of Negative Margins

2. Model Match

3. Inland-Freight Expenses

4. Affiliated-Party Inputs

5. General and Administrative Expenses

[FR Doc. E7-2227 Filed 2-9-03; 8:45 am]

BILLING CODE 3510-DS-S